DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than April 13, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Rural Health Network Development Program

OMB No.: 0906-xxxx-NEW.

Abstract: This program is authorized under Section 330A(f) of the Public Health Service (PHS) Act, as amended (42 U.S.C. 254c(f). This authority authorizes the Federal Office of Rural Health Policy (FORHP) to support grants for eligible entities to promote, through planning and implementation, the development of integrated health care networks that have combined the functions of the entities participating in the networks in order to: (i) Achieve efficiencies; (ii) expand access to, coordinate, and improve the quality of essential health care services; and (iii) strengthen the rural health care system as a whole.

The Rural Health Network Development Program is designed to assist rural health care providers acclimate to the evolving health care environment by addressing relevant topics to the health care environment as identified by the rural community. The program also enables rural health networks to continue to be a focus of innovation in maximizing limited rural health resources in times of economic hardship and decreased access to health care services that can be modeled in other communities, both rural and urban.

This is a 3-year competitive program for mature networks composed of at least three members that are separate, existing health care provider entities.

Need and Proposed Use of the Information: For this program, performance measures were drafted to provide data to the program and to enable HRSA to provide aggregate program data. These measures cover the principal topic areas of interest to the Federal Office of Rural Health Policy, including: (a) Network infrastructure; (b) network collaboration; (c) sustainability; and (d) network assessment. Several measures will be used for this program.

A 60-day notice was published in the Federal Register on December 22, 2014 (79 FR 6335). There were no comments.

Likely Respondents: The respondents would be Rural Health Network Development Program grant recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Performance Improvement and Measurement System (PIMS) Database | 54 | 1 | 54 | 6.7 | 361.8
Total | 54 | 1 | 54 | 6.7 | 361.8

Jackie Painter,
Director, Division of the Executive Secretariat.

[FR Doc. 2015-05733 Filed 3-12-15; 8:45 am]

BILLING CODE 4165-15-P